DEPARTMENT OF ENERGY

Federal Energy Regulatory Commission

[Docket No. OR22-1-000]

Petition of the Liquids Shippers Group for Expedited Order Directing Compliance With Form No. 6 Reporting Requirements; Notice of Petition

Take notice that on December 14, 2021, pursuant to Rule 207(a)(5) of the Federal Energy Regulatory Commission's (Commission) Rules of Practice and Procedure, 18 CFR 385.207(a)(5) (2021) and section 20(1) of the Interstate Commerce Act (ICA), 49 U.S.C. app. 20(1) (1988), the Liquids Shippers Group ¹ (Petitioner) petitioned the Commission to issue an order by February 18, 2022 directing every jurisdictional oil pipeline ² to correctly record interstate revenues in Account Nos. 230 through 260 and to report those revenues on page 700 when submitting its annual FERC Form No. 6 filing for 2021, and for every year thereafter, all as more fully explained in the petition.

¹ For the purpose of this Petition, the LSG includes: Anadarko Energy Services Company, Cenovus Energy Marketing Services Ltd., ConocoPhillips Company, Crescent Point Energy Corp., Devon Gas Services, L.P., Marathon Oil Company, Murphy Exploration and Production Company—USA, Ovintiv Marketing Inc., and Pioneer Natural Resources USA, Inc.

² The term “oil pipelines” includes FERC-jurisdictional crude oil, refined products, and petroleum liquids pipelines.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance with any FERC Online service, please email FERCOnlineSupport@ferc.gov, or call (866) 208-3676 (toll free). For TTY, call (202) 502-8659.

Comment Date: 5:00 p.m. Eastern time on January 13, 2022.

Dated: December 21, 2021.
Kimberly D. Bose,
Secretary.

[FR Doc. 2021-28204 Filed 12-27-21; 8:45 am]

BILLING CODE 6717-01-P